DEPARTMENT OF HOMELAND SECURITY

Coast Guard

33 CFR Part 165

[Docket No. USCG-2007-0115]

RIN 1625-AA87

Security Zone; Escorted Vessels, Charleston, SC, Captain of the Port Zone

Correction

Rule document E8-11863 was inadvertently published in the Proposed Rules section of the issue of May 28, 2008, beginning on page 30560. It should have appeared in the Rules and Regulations section.

[FR Doc. 2010-517 Filed 1-27-10; 8:45 am]

BILLING CODE 1505-01-D